DEPARTMENT OF JUSTICE

Notice of Lodging of Consent Decree Between the United States and Alcoa Under the Clean Air Act

Under 28 CFR 50.7, notice is hereby given that on April 9, 2003, a proposed consent decree (“Consent Decree”) between Alcoa Inc. (“Alcoa”) and the United States, Civil Action No. A03CA222SS was lodged with the United States District Court for the Western District of Texas.

The Consent Decree would resolve claims asserted by the United States against Alcoa pursuant to sections 113(b) and 167 of the Clean Air Act (the “Act”), 42 U.S.C. 7413(b) and 7477, seeking injunctive relief and the assessment of civil penalties for Alcoa's violations of:

(a) The Prevention of Significant Deterioration (“PSD”) provisions of the Act, 42 U.S.C. 7470 through 7492, and

(b) The Federally-enforceable Texas State Implementation Plan (“SIP”), which has been approved at 40 CFR part 52, subpart SS, sections 52.2270 through 52.2311, and which includes the Prevention of Significant Deterioration requirements at 40 CFR 52.2270(c) and 30 T.A.C. 116.01, 116.160.

The compliant filed by the United States alleges, among other things, that between approximately 1983 and the present, Alcoa modified and thereafter operated certain boilers units at the lignite-fired Sandow Power Plant (Sandow Units 1-3) located in Milam County, Rockdale, Texas without first obtaining a PSD permit authorizing the construction of physical modifications to the units, and without first installing and operating appropriate control technology to reduce emissions of nitrogen oxides, sulfur dioxide, and particular matter, as required by the PSD provisions in sections 160 through 169(B) of the Act, 42, U.S.C. 7470-7492 and 40 CFR 52.21, and the Texas SIP at 40 CFR 52.2770(c) and 30 T.A.C. 116.01, 116.03, 116.3(a) and 116.160. Three other entities—Neighbors for Neighbors, Inc., Environmental Defense, and Public Citizen, Inc.—also asserted similar claims against Alcoa.

The proposed Consent Decree would require Alcoa to either install comprehensive pollution controls or shut down these units between 2006 and 2007. The settlement would also require Alcoa to pay $1.5 million in civil penalties and to undertake $2.5 million in environmental projects to mitigate the harm caused by the alleged violations.

The Department of Justice will receive for a period of 30 days from the date of this publication comments relating to the Consent Decree. Comments should be addressed to the Assistant Attorney General, Environment and Natural Resources Division, P.O. Box 7611, U.S. Department of Justice, Washington, DC 20044-7611, and should refer to United States v. Alcoa Inc., D.J. Ref. No. 90-5-2-1-07723.

The Consent Decree may be examined at the Office of the United States Attorney, Western District of Texas, 816 Congress Avenue, Suite 1000, Austin, Texas 78701, and at U.S. EPA Region VI, 1445 Ross Avenue, Dallas, TX 75202-2733. During the public comment period, the Consent Decree may also be examined on the following Department of Justice Web site, http://www.usdoj.gov/enrd/open/html. A copy of the Consent Decree may also be obtained by the mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.50 (25 cents per page reproduction cost) payable to the U.S. Treasury.

Benjamin Fisherow,
Deputy Section Chief, Environmental Enforcement Section, Environment and Natural Resources Division.

[FR Doc. 03-10081 Filed 4-23-03; 8:45 am]

BILLING CODE 4410-15-M